ENVIRONMENTAL PROTECTION AGENCY

[FRL-8692-5]

New York State Prohibition of Marine Discharges of Vessel Sewage; Receipt of Petition and Tentative Affirmative Determination

AGENCY: Environmental Protection Agency (EPA).

ACTION: Notice.

SUMMARY: Notice is hereby given that a petition has been received from the State of New York requesting a determination by the Regional Administrator, U.S. Environmental Protection Agency, that adequate facilities for the safe and sanitary removal and treatment of sewage from all vessels are reasonably available for Oyster Bay/Cold Springs Harbor Complex, New York. The waters of the proposed No Discharge Zone fall within the jurisdictions of the Town of Oyster Bay, the Town of Huntington, the Village of Bayville, the Village of Bayville, the Village of Centre Island, the Village of Cove Neck, the Village of Lattingtown, the Village of Laurel Hollow, the Village of Lloyd Harbor, the Village of Mill Neck, the Village of Oyster Bay Cove, the County of Nassau, and the County of Suffolk. These entities submitted an application prepared by Cashin Associates, P.C. for the designation of a Vessel Waste No Discharge Zone. New York State Department of Environmental Conservation certified the need for greater protection of the water quality.

DATES: Comments regarding this tentative determination are due by August 14, 2008.

ADDRESSES: Submit your comments using one of the following methods:

E-mail: olander.james@epa.gov.

Fax: (212) 637-3887.

Mail and hand delivery: U.S. Environmental Protection Agency—Region 2, 290 Broadway, 24th Floor, New York, NY 10007-1866. Deliveries are only accepted during the Regional Office's normal hours of operation (8 a.m.-5 p.m., Monday through Friday, excluding legal holidays), and special arrangements should be made for deliveries of boxed information.

FOR FURTHER INFORMATION CONTACT: James L. Olander, U.S. Environmental Protection Agency—Region 2, 290 Broadway, 24th Floor, New York, NY 10007-1866. Telephone: (212) 637-3833, Fax number: (212) 637-3887; e-mail address: olander.james@epa.gov.

SUPPLEMENTARY INFORMATION: Notice is hereby given that a petition has been received from the State of New York requesting a determination by the Regional Administrator, U.S. Environmental Protection Agency, pursuant to section 312(f)(3) of Public Law 92-500 as amended by Public Law 95-217 and Public Law 100-4, that adequate facilities for the safe and sanitary removal and treatment of sewage from all vessels are reasonably available for Oyster Bay/Cold Springs Harbor Complex and its harbors and creeks within the following boundary:

South of a line drawn from Rocky Point on Centre Island in west to Caumsett State Park in the east. The Complex encompasses 6400 acres of open water and intertidal area. The waterbodies included in the Complex are Oyster Bay Harbor between Bayville Bridge and Plum Point on Centre Island, Mill Neck Creek to the west of Bayville Bridge, Cold Spring Harbor south of a line between Cooper Bluff in Cove Neck and West Neck Beach in the Village of Lloyd Harbor, and Oyster Bay between Centre Island and the Lloyd Neck peninsula that connects Oyster Bay Harbor and Cold Spring Harbor to Long Island Sound.

New York has provided documentation indicating that the total vessel population is estimated to be 2,000 in the proposed area. Based upon boat census data, approximately 1000 to 1500 vessels would be equipped with a Type III marine sanitation device (holding tank). Four pumpout facilities are operational in the Complex, these facilities are Roosevelt Marina, Powles Marina, Town of Oyster Bay Pumpout Barges (2-East and West), and Town of Oyster Bay Pumpout Vessel. Based upon the criteria cited in the Clean Vessel Act (a pumpout facility can adequately service 300 to 600 vessels) and based upon the vessel population, the Complex requires approximately three to six pumpout facilities. The harbor has five facilities operational which satisfies the criteria. An additional pumpout boat is available when needed.

Roosevelt Marina Pumpout is located at 40° 52.635″ N/73° 31.805″ W. The pumpout is available 24 hours per day and 365 days a year. The contact for information on the pumpout is the Town of Oyster Bay, Roosevelt Marina Pumpout, VHF Channel 9 or 516-797-4110. The facility fee is free. Vessel limitations are 36 feet in length and 4 feet in draft at dead low tide. The collected vessel sewage is discharged to the sewer and treated at the Oyster Bay Sewer District Wasterwater Treatment Plant.

Powles Marina Pumpout is at 40° 52′ 31.17″ N/73° 28′ 17.94″ W. The pumpout is available 24 hours per day from Mid-April to October 31, seven days a week. The contact for information is the Powles Marina at 631-367-7670 or VHF Channel 9. The facility fee is free. Vessel limitations are 50 feet in length and 5 feet in draft at low tide. The pumpout facility is serviced by the town sewage truck.

Town of Oyster Bay Pumpout Barges are located at 40° 52.657″ N/73° 31.456″ W and 40° 52.804″ N/73° 32.264″ W. The barges are available Mid-April through October 31, 24 hours a day, 7 days per week. The contact for information is Oyster Bay Pumpout Barge on VHF Channel 9. The facility fee is free. Vessel limitations are location dependent. The pumpout barges offload vessel sewage at the Roosevelt Marina Pumpout.

The Town of Oyster Bay Pumpout Vessel operates in the Complex and is available Mid-April through October 31, Thursday through Sunday, from 10 a.m. until 6 p.m. The contact for information is the Town of Oyster Bay Pumpout Vessel on VHF Channel 9. The facility fee is free. The Roosevelt Marina Pumpout is used for disposal sewage from the pumpout boat and the marina pumpout discharges to the Oyster Bay Sewer District wastewater treatment plant.

The EPA hereby makes a tentative affirmative determination that adequate facilities for the safe and sanitary removal and treatment of sewage from all vessels are reasonably available for the Oyster Bay/Cold Spring Harbor Complex in the Counties of Nassau and Suffolk, New York. A 30-day period for public comment has been opened on this matter which may result in a New York State prohibition of any sewage discharges from vessels in for the Oyster Bay/Cold Spring Harbor Complex in the Counties of Nassau and Suffolk, New York.

Dated: June 27, 2008.
George Pavlou,
Acting Regional Administrator, Region 2.

[FR Doc. E8-16120 Filed 7-14-08; 8:45 am]

BILLING CODE 6560-50-P